DEPARTMENT OF ENERGY

Federal Energy Regulatory Commission

[Docket Nos. PL18-1-000 and PL18-1-001]

Certification of New Interstate Natural Gas Facilities; Notice of Secretary of Energy Proposal To Rescind the Draft Updated Certificate Policy Statement and Soliciting Comments

On August 29, 2025, the Secretary of Energy sent a letter to the Federal Energy Regulatory Commission pursuant to section 403 of the Department of Energy Organization Act, 42 U.S.C. 7173(a), proposing that the Commission terminate the policy statement proceeding in Commission Docket Nos. PL18-1-000 and PL18-1-001, Certification of New Interstate Natural Gas Facilities, concerning the Commission's authority under section 7(c) of the Natural Gas Act, 15 U.S.C. 717f(c). The Secretary of Energy's letter asserts that the Commission should rescind the 2022 draft Updated Certificate Policy Statement, terminate the related proceeding, and instead continue to rely on the framework established by the 1999 Certificate Policy Statement. The letter is filed in Docket Nos. PL18-1-000 and PL18-1-001 under Accession Number 20250902-4000.

Description of Proceeding: In 1999 the Commission issued a policy statement explaining its approach when considering applications to construct new interstate natural gas transportation facilities under section 7 of the Natural Gas Act. Certification of New Interstate Natural Gas Pipeline Facilities, 88 FERC ¶ 61,227 (1999), clarified, 90 FERC ¶ 61,128, further clarified, 92 FERC ¶ 61,094 (2000) (1999 Certificate Policy Statement). On April 19, 2018, the Commission issued a Notice of Inquiry seeking information to help the Commission explore whether, and if so how, it should revise its approach. 163 FERC ¶ 61,042 (2018). On February 18, 2021, the Commission issued a new Notice of Inquiry seeking further comments in response to revised and expanded questions. 174 FERC ¶ 61,125 (2021). On February 18, 2022, the Commission issued an Updated Certificate Policy Statement intended to explain how, going forward, the Commission's approach would differ from the 1999 Certificate Policy Statement. 178 FERC ¶ 61,107 (2022). On March 24, 2022, the Commission made the Updated Certificate Policy Statement a draft policy statement, invited further comment, and stated that the Commission would not apply the draft policy statement before the Commission issues final guidance. 178 FERC ¶ 61,197 (2022). Action remains pending.

The Commission now seeks comments on the Secretary of Energy's proposal that the Commission terminate the proceedings in Docket Nos. PL18-1-000 and PL18-1-001. The deadline for filing comments is September 9, 2025, 5:00 p.m. Eastern Time.

Any filing responding to this Notice must (1) bear in all capital letters the title “COMMENTS”; (2) set forth in the heading the name of the proceeding and the docket number; (3) furnish the name, address, and telephone number of the person commenting; and (4) otherwise comply with the requirements of 18 CFR 385.2001 through 385.2005.

The Commission strongly encourages electronic filing. Please file comments, using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include the docket numbers PL18-1-000 and PL18-1-001. Comments emailed to Commission staff are not considered part of the Commission record.

The Commission's Office of Public Participation (OPP) supports meaningful public engagement and participation in Commission proceedings. OPP can help members of the public, including landowners, community organizations, Tribal members, and others access publicly available information and navigate Commission processes. For public inquiries and assistance with making filings such as comments, the public is encouraged to contact OPP at (202) 502-6595 or OPP@ferc.gov.

Dated: September 2, 2025.
Debbie-Anne A. Reese,
Secretary.

[FR Doc. 2025-17044 Filed 9-4-25; 8:45 am]

BILLING CODE 6717-01-P